DEPARTMENT OF COMMERCE

International Trade Administration

[A-533-840]

Certain Frozen Warmwater Shrimp From India: Final Results of Antidumping Duty Administrative Review; 2019-2020; Correction

AGENCY: Enforcement and Compliance, International Trade Administration, Department of Commerce.

ACTION: Notice; correction.

SUMMARY: The Department of Commerce (Commerce) published a notice in the Federal Register of November 26, 2021 in which Commerce issued the final results of the 2019-2020 administrative review of the antidumping order on certain frozen warmwater shrimp from India. This notice incorrectly spelled the name of one company listed in Appendix II.

FOR FURTHER INFORMATION CONTACT: Adam Simons, AD/CVD Operations, Office II, Enforcement and Compliance, International Trade Administration, U.S. Department of Commerce, 1401 Constitution Avenue NW, Washington, DC 20230; telephone: (202) 482-6172.

SUPPLEMENTARY INFORMATION:

Correction

In the Federal Register of November 26, 2021, in FR Doc 2021-25771, on page 67442, in the third column, correct the company name of “Kay Exports,” entry number 75, to “Kay Kay Exports.”

Background

On November 26, 2021, Commerce published in the Federal Register the Final Results.¹ We incorrectly listed the company “Kay Kay Exports” as “Kay Exports” in Appendix II.

¹ See Certain Frozen Warmwater Shrimp From India: Final Results of Antidumping Duty Administrative Review; 2019-2020, 86 FR 67440 (November 26, 2021) (Final Results).

Notification to Interested Parties

This notice is issued and published in accordance with sections 751(a)(1) and 777(i) of the Tariff Act of 1930, as amended.

Dated: December 6, 2021.
Ryan Majerus,
Deputy Assistant Secretary for Policy and Negotiations, Performing The Non-Exclusive Functions and Duties of the Assistant Secretary for Enforcement and Compliance.

[FR Doc. 2021-26771 Filed 12-9-21; 8:45 am]

BILLING CODE 3510-DS-P